ENVIRONMENTAL PROTECTION AGENCY

[EPA-HQ-TRI-2006-0319; FRL-8539-7]

RIN 2025-AA19

Acetonitrile Petition; Community Right-to-Know Toxic Chemical Release Reporting; Notice of Data Availability

AGENCY: Environmental Protection Agency (EPA).

ACTION: Notice of data availability.

SUMMARY: The purpose of this action is to solicit public comment on two documents developed in response to a petition to remove acetonitrile from the list of chemicals subject to reporting under section 313 of the Emergency Planning and Community Right-to-Know Act (EPCRA) of 1986, commonly referred to as the Toxics Release Inventory (TRI). The two documents EPA is making available for public comment are: The TRI Technical Review of Acetonitrile and the Acetonitrile External Peer Review charge. EPA is also providing the public with access to related reference documents.

DATES: Comments must be received on or before April 7, 2008.

ADDRESSES: Submit your comments, identified by Docket ID No. EPA-HQ-TRI-2006-0319 by one of the following methods:

• www.regulations.gov: Follow the on-line instructions for submitting comments.

• E-mail: oei.docket@epa.gov.

• Fax: 202-566-9744.

• Mail: OEI Docket, Environmental Protection Agency, Mailcode: 2822T, 1200 Pennsylvania Ave., NW., Washington, DC 20460.

• Hand Delivery: EPA Docket Center (EPA/DC), EPA West, Room 3334, 1301Constitution Ave., NW., Washington, DC 20460. Such deliveries are only accepted during the Docket's normal hours of operation, and special arrangements should be made for deliveries of boxed information.

Instructions: Direct your comments to Docket ID No. EPA-HQ-TRI-2006-0319. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov. The www.regulations.gov Web site is an “anonymous access” system, which means EPA will not know your identity or contact information unless you provide it in the body of your comment. If you send an e-mail comment directly to EPA without going through www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm. For additional instructions on submitting comments, go to Unit III. Public Comments of the SUPPLEMENTARY INFORMATION section of this document.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at OEI Docket, EPA/DC, EPA West, Room 3334, 1301 Constitution Ave., NW., Washington, DC. The Public Reading Room is open from 8:30 a.m. to 4:30 p.m., Monday through Friday, excluding legal holidays. The telephone number for the Public Reading Room is (202) 566-1744 and the telephone number for the OEI Docket is 202-566-1752.

FOR FURTHER INFORMATION CONTACT: Mavis Sanders, Environmental Analysis Division (EAD), Office of Information Analysis and Access (OIAA) (MC2842T), 1200 Pennsylvania Ave., NW., Washington, DC 20460; telephone number 202-566-0646; fax number: 202-566-0677; or e-mail sanders.mavis@epa.gov.

SUPPLEMENTARY INFORMATION:

I. General Information

A. Does This Action Apply to Me?

This document does not make any changes to existing regulations. However, you may be interested in this document if you manufacture, process, or otherwise use acetonitrile. Potentially interested categories and entities may include, but are not limited to the following:

Category | Examples of potentially affected entities
Industry | Facilities included in the following NAICS manufacturing codes (corresponding to SIC codes 20 through 39): 311*, 312*, 313*, 314*, 315*, 316, 321, 322, 323*, 324, 325*, 326*, 327, 331, 332, 333, 334*, 335*, 336, 337*, 339*, 111998*, 211112*, 212234*, 212235*, 212393*, 212399*, 488390*, 511110, 511120, 511130, 511140*, 511191, 511199, 511220, 512230*, 516110*, 541710*, or 811490*. *Exceptions and/or limitations exist for these NAICS codes.
| Facilities included in the following NAICS codes (corresponding to SIC codes other than SIC codes 20 through 39): 212111, 212112, 212113 [correspond to SIC 12, Coal Mining (except 1241)]; or 212221, 212222, 212231, 212234, 212299 [correspond to SIC 10, Metal Mining (except 1011, 1081, and 1094)]; or 221111, 221112, 221113, 221119, 221121, 221122 (Limited to facilities that combust coal and/or oil for the purpose of generating power for distribution in commerce) (correspond to SIC 4911, 4931, and 4939, Electric Utilities); or 424690, 425110, 425120 (Limited to facilities previously classified in SIC 5169, Chemicals and Allied Products, Not Elsewhere Classified.); or 424710 (corresponds to SIC 5171, Petroleum Bulk Terminals and Plants); or 562112 [Limited to facilities primarily engaged in solvent recovery services on a contract or fee basis (previously classified under SIC 7389, Business Services, NEC).]; or 562211, 562212, 562213, 562219, 562920 (Limited to facilities regulated under the Resource Conservation and Recovery Act, subtitle C, 42 U.S.C. 6921 et seq.) (correspond to SIC 4953).
Federal Government | Federal facilities.

This table is not intended to be exhaustive, but rather provides a guide for readers regarding entities likely to be interested in this document. Some of the entities listed in the table have exemptions and/or limitations regarding coverage, other types of entities not listed in this table may also be interested in this document are those covered in 40 Code of Federal Regulations (CFR) part 372, subpart B. If you have any questions regarding whether a particular entity is covered by this section of the CFR, consult the technical person listed in the FOR FURTHER INFORMATION CONTACT section.

B. How Should I Submit CBI to the Agency?

Do not submit information that you consider to be CBI through www.regulations.gov or e-mail. Commenters wishing to submit proprietary information for consideration must clearly distinguish such information from other comments and clearly label it as CBI. Send submissions containing such proprietary information directly to the following address only, and not to the public docket, to ensure that proprietary information is not inadvertently placed in the docket: Attention: OEI Document Control Officer, Mail Code: 2822T, U.S. EPA, 1200 Pennsylvania Ave., NW., Washington, DC 20460. You may claim information that you submit to EPA as CBI by marking any part or all of that information as CBI (if you submit CBI on disk or CD ROM, mark the outside of the disk or CD ROM as CBI and then identify electronically within the disk or CD ROM the specific information that is CBI). The EPA will disclose information claimed as CBI only to the extent allowed by the procedures set forth in 40 CFR part 2.

In addition to one complete version of the comment that includes any information claimed as CBI, a copy of the comment that does not contain the information claimed as CBI must be submitted for inclusion in the public docket and EPA's electronic public docket. If you submit the copy that does not contain CBI on disk or CD ROM, mark the outside of the disk or CD ROM clearly that it does not contain CBI. Information not marked as CBI will be included in the public docket and EPA's electronic public docket without prior notice. If you have any questions about CBI or the procedures for claiming CBI, please consult the person identified in the FOR FURTHER INFORMATION CONTACT section.

II. What Is the Purpose of This Document?

On June 28, 2002, Innovene (formerly BP Chemicals Inc.) petitioned the Agency to remove acetonitrile (methyl cyanide) from the list of chemicals subject to the reporting requirements of EPCRA section 313. In response to the petition to delist acetonitrile, EPA has prepared a hazard assessment for acetonitrile entitled “TRI Technical Review of Acetonitrile,” which will shortly be submitted for external peer review. This notice provides the public access to EPA's “TRI Technical Review of Acetonitrile”, the acetonitrile petition, related materials, peer review charge, and all associated references.

III. Public Comments

EPA is accepting comments only on the two documents made available through this action. These documents are: (1) The TRI Technical Review of Acetonitrile and (2) the Acetonitrile External Peer Review charge. Comments submitted in response to this notification should be limited to the scientific findings in these documents. Comments responding to these documents will be made available to the peer reviewers for consideration during the external peer review process.

EPA does not intend to respond to comments unrelated to the two documents identified as open for public comment and will not provide them to peer reviewers for consideration.

List of Subjects in 40 CFR Part 372

Environmental protection, Chemicals, Reporting and recordkeeping requirements and Community right-to-know.

Dated: February 27, 2008.
Michael P. Flynn,
Director, Office of Information Access and Analysis, Office of Environmental Information.

[FR Doc. E8-4572 Filed 3-6-08; 8:45 am]

BILLING CODE 6560-50-P